DEPARTMENT OF DEFENSE

Department of the Navy

Notice of Intent To Grant Partially Exclusive Patent License; ICAP Patent Brokerage, LLC

AGENCY: Department of the Navy, DoD.

ACTION: Notice.

SUMMARY: The Department of the Navy hereby gives notice of its intent to grant to ICAP Patent Brokerage, LLC, a revocable, nonassignable, partially exclusive license in the United States to practice the Government-Owned inventions described in U.S. Patent No. 6,384,953: Micro-Dynamic Optical Device.//U.S. Patent No. 6,433,465: Energy-Harvesting Device Using Electrostrictive Polymers.//U.S. Patent No. 7,245,292: Apparatus and Method for Incorporating Tactile Control and Tactile Feedback Into a Human-Machine Interface.//U.S. Patent No. 7,274,413: Flexible Video Display Apparatus and Method.//U.S. Patent No. 7,277,475: Narrowband Interference Excision Device.//U.S. Patent No. 7,925,496: Method for Summarizing Natural Language Text.//U.S. Patent No. 8,217,382: Optical-Powered Flexible Photonic Bandgap Sensor Device.

DATES: Anyone wishing to object to the grant of this license must file written objections along with supporting evidence, if any, not later than September 4, 2013.

ADDRESSES: Written objections are to be filed with the Office of Research and Technology Applications, Space and Naval Warfare Systems Center Pacific, Code 72120, 53560 Hull St, Bldg A33 Room 2531, San Diego, CA 92152-5001.

FOR FURTHER INFORMATION CONTACT: Brian Suh, Office of Research and Technology Applications, Space and Naval Warfare Systems Center Pacific, Code 72120, 53560 Hull St, Bldg A33 Room 2531, San Diego, CA 92152-5001, telephone 619-553-5118, E-Mail: brian.suh@navy.mil.

Authority: 35 U.S.C. 207, 37 CFR Part 404.

Dated: August 14, 2013.
D. G. Zimmerman,
Lieutenant Commander, Office of the Judge Advocate General, U.S. Navy, Alternate Federal Register Liaison Officer.

[FR Doc. 2013-20330 Filed 8-19-13; 8:45 am]

BILLING CODE 3810-FF-P